DEPARTMENT OF HEALTH AND HUMAN SERVICES

National Institutes of Health

National institute of Neurological Disorders and Stroke; Amended Notice of Meeting

Notice is hereby given of a change in the meeting of the National Advisory Neurological Disorders and Stroke Council, September 12, 2002, 8:00 AM to September 12, 2002, 10:00 AM, National Institutes of Health, 31 Center Drive, Building 31, Room 8A28, Bethesda, MD 20892 which was published in the Federal Register on August 8, 2002, 67 FR 02-20103.

The Council Infrastructure, Neuroinformatics, and Computational Neuroscience Subcommittee will now be held in Building 31, Conference Room 8. The meeting is open from 8 a.m. to 9:15 a.m. and closed from 9:15 a.m. to 10 a.m. The meeting is partially closed to the public.

Dated: September 9, 2002.
LaVerne Y. Stringfield,
Director, Office of Federal Advisory Committee Policy.

[FR Doc. 02-23539 Filed 9-16-02; 8:45 am]

BILLING CODE 4140-01-M